INTER-AMERICAN FOUNDATION

Sunshine Act Meetings

TIME AND DATE: August 10, 2015, 9 a.m.-1 p.m.

PLACE: Inter-American Foundation, 1331 Pennsylvania Ave. NW., Suite 1200 North Building, Washington, DC 20004.

STATUS: Meeting of the Board of Directors, Open to the Public.

MATTERS TO BE CONSIDERED:

Approval of the Minutes of the November 10, 2014, Meeting of the Board of Directors & Advisory Council

Management Report

2016 Board Meetings and Trip Dates

Adjournment

CONTACT PERSON FOR MORE INFORMATION: Paul Zimmerman, General Counsel, (202) 683-7118.

Paul Zimmerman,
General Counsel.

[FR Doc. 2015-19317 Filed 8-3-15; 11:15 am]

BILLING CODE 7025-01-P